FEDERAL RETIREMENT THRIFT INVESTMENT BOARD

Sunshine Act; Notice of Meeting

Time And Date: 9 a.m. (EDT), October 16, 2006.

Place: 4th Floor Conference Room, 1250 H Street, NW., Washington, DC.

Status: Parts will be open to the public and parts closed to the public.

Matters to be Considered

Parts Open to the Public

1. Approval of the minutes of the September 18, 2006 Board member meeting.

2. Thrift Savings Plan activity report by the Executive Director.

3. Quarterly Investment Policy report.

4. Quarterly Vendor Financial Statement report.

5. Deloitte & Touche Mid-Year Review.

6. Barclays Global Investors' Audit.

Parts Closed to the Public

7. Procurement.

FOR FURTHER INFORMATION CONTACT: Thomas J. Trabucco, Director,

Office of External Affairs, (202) 942-1640.

Dated: October 6, 2006.
Thomas K. Emswiler,
Secretary to the Board, Federal Retirement Thrift Investment Board.

[FR Doc. 06-8650 Filed 10-6-06; 4:31 pm]

BILLING CODE 6760-01-P